DEPARTMENT OF HOMELAND SECURITY

Coast Guard

33 CFR Part 100

[Docket No. USCG-2008-0698]

Annual Kennewick, Washington, Columbia Unlimited Hydroplane Races

AGENCY: Coast Guard, DHS.

ACTION: Notice of enforcement of regulation.

SUMMARY: The Coast Guard will enforce the special local regulation for the “Annual Kennewick, Washington, Columbia Unlimited Hydroplane Races” from 7 a.m. to 7:30 p.m. each day, from July 25, 2008 through July 27, 2008. This action is necessary to assist in minimizing the inherent dangers associated with hydroplane races. During the enforcement period, no person or vessel may enter the regulated area without permission of the Captain of the Port.

DATES: The regulations in 33 CFR 100.1303 will be enforced from 7 a.m. to 7:30 p.m. each day from July 25, 2008 through July 27, 2008.

FOR FURTHER INFORMATION CONTACT: BM2 Joshua Lehner, Sector Portland Waterways Management at (503) 247-4015.

SUPPLEMENTARY INFORMATION: The Coast Guard will enforce the special local regulation for the Annual Kennewick, Washington, Columbia Unlimited Hydroplane Races in 33 CFR 100.1303 from 7 a.m. to 7:30 p.m. each day from July 25, 2008 through July 27, 2008.

Under the provisions of 33 CFR 100.1303, a vessel may not enter the regulated area, unless it receives permission from the Coast Guard Patrol Commander. Vessels granted permission to enter the zone by the Patrol Commander shall not exceed minimum wake speed without the permission of the Patrol Commander. A succession of sharp, short signals by whistle, siren, or horn from vessels patrolling the area under the direction of the U.S. Coast Guard Patrol Commander shall serve as a signal to stop. Vessels signaled to stop shall stop and comply with orders of the patrol vessel personnel; failure to do so may result in expulsion from the area, citation, or both. The Coast Guard may be assisted by other Federal, state, or local law enforcement agencies in enforcing this regulation.

This notice is issued under authority of 33 CFR 100.1303 and 5 U.S.C. 552(a). In addition to this notice in the Federal Register, the Coast Guard will provide the maritime community with advance notification of this enforcement period via the Local Notice to Mariners and a marine information broadcast. If the COTP determines that the regulated area need not be enforced for the full duration stated in this notice, he may use a Broadcast Notice to Mariners to grant general permission to enter the regulated area.

Dated: July 7, 2008.
F.G. Myer,
Captain, U.S. Coast Guard, Captain of the Port Portland.

[FR Doc. E8-16677 Filed 7-21-08; 8:45 am]

BILLING CODE 4910-15-P